DEPARTMENT OF COMMERCE

Economic Development Administration

[Docket No.: 110705370-1370-01]

Public Input for the Launch of the Strong Cities, Strong Communities Visioning Challenge

AGENCY: Economic Development Administration, U.S. Department of Commerce.

ACTION: Notice and request for information.

SUMMARY: The Obama Administration announces and requests public comments on the structure of the Strong Cities, Strong Communities Visioning Challenge (SC2 Pilot Challenge), which is a component of the SC2 Interagency Initiative led by the White House Office of Urban Policy. The SC2 Interagency Initiative is a multi-agency, capacity-building effort to coordinate Federal resources offered by the U.S. Department of Commerce, U.S. Department of Housing and Urban Development, U.S. Environmental Protection Agency, U.S. Department of Labor, U.S. Department of Health and Human Services, U.S. Department of Agriculture, U.S. Department of Energy, U.S. Department of Education, U.S. Department of Justice, U.S. Department of Transportation, U.S. Department of the Treasury, U.S. Small Business Administration, and U.S. Army Corps of Engineers (collectively, the “SC2 Interagency Partnership”), to address the many planning, housing, and economic challenges facing communities across the United States. The President has called upon executive departments and agencies to work together more strategically—through better coordination of human, regulatory and financial resources—with economically distressed cities in the Nation by identifying barriers to federal assistance.

Subject to the availability of funds under Economic Development Administration's (EDA) Economic Adjustment Assistance program (42 U.S.C. 3149), the SC2 Pilot Challenge will offer a total of $6 million to support the development and implementation of comprehensive economic development strategic plans for approximately six cities. Each of the winning cities (one selected in each of EDA's six geographic regions) will be awarded $1 million to conduct a community-led challenge competition (referred to as the “Challenge Competition”) with the support of the SC2 Interagency Partnership, and will receive technical assistance and support from EDA to conduct the Challenge Competition. As a part of the Challenge Competition, each city will invite multidisciplinary teams, representing a variety of disciplines with complementary skills in the economic development arena, to submit proposals for comprehensive economic development strategic plans establishing and promoting a vision and approach to stimulate local economic development. The proposals are expected to be multi-faceted, to include plans to restructure and realign land-uses, infrastructure, and economic and social resources (e.g., industry clusters, workforce development), and economic development approaches that promote competitiveness and high-growth potential.

The final comprehensive economic development strategic plan for the city will be based on a genuine understanding of the local, regional, and global economic realities. The plan will serve as a blueprint to guide the city's and region's future investments towards economic prosperity.

To design the Challenge Competition, EDA anticipates using the new authority granted to Federal agencies to conduct prize competitions and challenges under the America Creating Opportunities to Meaningfully Promote Excellence in Technology, Education, and Science (COMPETES) Reauthorization Act of 2010 (Pub. L. 111-358 (2011)) (America COMPETES Act). In this regard, EDA will engage a prize and challenge expert to help develop the competition framework, including rules regarding eligibility, potential prize amounts, process and other criteria, that each winning city will use to run its local Challenge Competition.

Through this notice, EDA requests public comments on the structure of the SC2 Pilot Challenge, in particular regarding how the agency can best use the America COMPETES Act authority to conduct prize competitions to implement the SC2 Pilot Challenge. Please also see the section titled “Solicitation for Comments on the SC2 Pilot Challenge” for a list of specific questions. Subject to the availability of funds in FY 2012, EDA anticipates publishing a federal funding opportunity (FFO) notice to announce the SC2 Pilot Challenge in December 2011.

DATES: EDA invites comments from interested parties in both the public and private sectors to be considered in the formulation of the FFO announcement for the SC2 Pilot Challenge. Interested parties should submit comments in writing by e-mail or facsimile, as provided below under ADDRESSES, on or before thirty days from the publication of this notice.

ADDRESSES: Comments may be submitted by any of the following methods:

• E-mail: lboswell@eda.doc.gov. Please state “Comment on SC2 Pilot Challenge” in the subject line.

• Facsimile: (202) 482-2838. Please state “Comment on SC2 Pilot Challenge” on the cover page.

To receive consideration as public comments, comments must be submitted through e-mail or facsimile. All submissions must reference “Comment on the SC2 Pilot Challenge.” If you are addressing one of the questions solicited below under “Solicitation for Comments on the SC2 Pilot Challenge,” please note the number of the question to which you are responding. Do not include any information in your comment that you consider confidential or inappropriate for public disclosure.

FOR FURTHER INFORMATION CONTACT: Lynette Boswell, Performance and National Programs Division, Economic Development Administration, U.S. Department of Commerce, Room 7009, 1401 Constitution Avenue, NW., Washington DC 20230; telephone: (202) 482-1118.

SUPPLEMENTARY INFORMATION:

Administration of the SC2 Pilot Challenge

President Obama recognized the importance of economically vibrant and prosperous cities, towns and regions to our national economy when he asserted that “strong cities are the building blocks of strong regions, and strong regions are essential for a strong America.” The Administration has developed the SC2 Pilot Challenge to create Federal-local synergies that will help strengthen economically distressed communities. The SC2 Pilot Challenge will target cities, towns, and regions that have experienced significant economic challenges (e.g., significant population loss, long-term economic decline, high levels of poverty and unemployment, low property values, large amounts of vacant land, or high numbers of abandoned or substandard properties) yet possess physical, commercial and social assets that can be leveraged to create jobs and revitalize their economies.

This effort will reinforce the Administration's place-based approach to advancing cities, towns and regions into thriving 21st century economies, by helping these communities establish innovative, actionable objectives to be implemented by local and regional leaders in the public and private sectors to drive economic development and facilitate economic revitalization. Through the SC2 Pilot Challenge, eligible cities will compete for assistance to carry out an innovative local competition that will result in the development of a robust comprehensive economic development strategic plan.

EDA has six regional offices located in Atlanta, Austin, Philadelphia, Chicago, Denver, and Seattle. Please see EDA's Web site at http://www.eda.gov/AboutEDA/Regions.xml for a list of states covered by each regional office. Under the FFO that is anticipated to be issued to announce the SC2 Pilot Challenge, EDA as the lead agency, in collaboration with members of the SC2 Interagency Partnership, will conduct a competition to select six pilot cities, one in each of the geographic regions covered by EDA's regional offices (for a total of six awards), among a number of economically distressed cities across the United States. Subject to the availability of funds in FY 2012, EDA intends to make an award of up to $1 million to a winning pilot city in each EDA region. The award funds are anticipated to be available until expended. The project period of each award is anticipated to be 24 months. The FFO will provide information on how EDA will evaluate applications for funding.

In an effort to use the broad prize authority granted to Federal agencies under the America COMPETES Act, EDA is in the process of engaging a prize and challenge expert to help develop the framework that each winning city will use to run its local Challenge Competition. The current plan involves a cooperative agreement entered into between EDA and each winning city (the Grantee), under which the Grantee would launch a Challenge Competition by issuing a solicitation for the formation of multidisciplinary teams to submit proposals for comprehensive economic development strategic plans for the city. Ultimately, each Grantee would select one multidisciplinary team to develop a final economic development strategy. Each Grantee may use up to $1 million of grant funds to award prizes to the multidisciplinary team that advances in or wins the Challenge Competition. In addition, the Grantee may use any funds remaining after awarding the prizes to the multidisciplinary team to begin implementation of the comprehensive economic development strategic plan.

A multidisciplinary team may be comprised of professionals representing a variety of disciplines with complementary skills in economic development. For example, a multidisciplinary team could include economic development specialists, local business experts, urban/regional planners, economists, architects, statisticians, and engineers. EDA anticipates that the multidisciplinary teams will be allowed to compete in more than one city-held Challenge Competition. In addition, individuals and entities may participate on multiple multidisciplinary teams.

In preparation for and during the Challenge Competition, EDA will collaborate with the SC2 Interagency Partnership as its representatives provide recommendations and consultation to Grantees. Each winning multidisciplinary team will have no more than one year from the date of the public announcement (specific deadlines to be determined by the Grantee) announcing the winning multidisciplinary teams to develop a final comprehensive economic development strategic plan for the relevant Grantee. The process for developing the comprehensive economic development strategic plan will involve outreach and participation activities carried out between the winning multidisciplinary team and applicable Grantee. At the end of the one-year development period, EDA, the Grantees, and the professional economic development community will make the final comprehensive economic development strategic plan(s) available as precedent-setting models for economic transition and redevelopment practices.

Solicitation for Comments on the SC2 Pilot Challenge

To assist EDA in formulating the FFO announcement for the SC2 Pilot Challenge, EDA seeks public comment on the following questions:

1. What role should the Federal government play in helping to transform struggling cities, towns and regions into economically stable, well-functioning communities and what risks, if any, should the Federal government consider in meeting its objectives under the SC2 Pilot Challenge as currently envisioned?

2. Commenters are invited to submit views on the following questions:

a. How can the Challenge Competition (whereby select multidisciplinary teams would develop and submit proposals for comprehensive economic development strategic plans) be structured to ensure the greatest participation and success?

b. What type of structure for the Challenge Competition would be most feasible for cities to administer?

c. What resources would winning pilot cities need to carry out the Challenge Competition?

d. How much technical assistance or involvement will the pilot cities need for the Challenge Competition? Are there technical assistance programs that the SC2 Interagency Partnership should review to enhance the SC2 Pilot Challenge?

3. Which practices (e.g., smart growth; creative cities; healthy cities; sustainable economic development; regional innovation clusters) should the SC2 Pilot Challenge include?

4. What information should EDA and members of the SC2 Interagency Partnership consider in selecting the six city Grantees?

5. What information should EDA and members of the SC2 Interagency Partnership consider in selecting multidisciplinary teams as eligible participants to submit a proposal for a comprehensive economic development strategic plan?

6. To what extent should the SC2 Pilot Challenge encourage multidisciplinary teams to develop plans that speak to both the economic development and land use needs or opportunities of the city and region?

7. What criteria should EDA and members of the SC2 Interagency Partnership consider in connection with the evaluation of proposals submitted by the multidisciplinary teams?

8. What financial incentives should the Federal government use to encourage strong participation among economic development professionals?

9. Would one large prize serve as a more powerful incentive to having a robust competition, or should the competition be tiered in which multidisciplinary teams compete over the course of two or three “tiers” with winning teams who advance to the succeeding round receiving increasing levels of prizes?

10. Are there any issues that EDA and members of the SC2 Interagency Partnership should consider in connection with budgetary and time frame constraints imposed on local governments?

EDA's Statutory Authority and the America COMPETES Act

EDA's authorizing statute is the Public Works and Economic Development Act of 1965, as amended (42 U.S.C. 3121 et seq.) (PWEDA). The specific authority for the Economic Adjustment Assistance program is section 209 of PWEDA (42 U.S.C. 3149). EDA's regulations at 13 CFR Parts 300-302 and subpart A of 13 CFR Part 307 set forth the general and specific regulatory requirements applicable to the Economic Adjustment Assistance program. EDA's regulations and PWEDA are accessible on EDA's Web site at http://www.eda.gov/InvestmentsGrants/Lawsreg.xml.

Section 105 of America COMPETES Act amends the Stevenson-Wydler Technology Innovation Act of 1980 (15 U.S.C. 3701 et seq.) to permit any agency head to “carry out a program to award prizes competitively to stimulate innovation that has the potential to advance the mission of the respective agency.” The Act authorizes agencies to use Federal appropriated funds to design prizes, administer prizes, and offer monetary prizes for competitions.

EDA's Matching Share Requirement

EDA requires a non-federal matching share for its investments. As such, EDA recognizes that local governments may be in the process of developing or ratifying operational budgets for the coming year on a parallel timeline with the anticipated publication of the FFO for the SC2 Pilot Challenge. Generally, the amount of an EDA grant may not exceed fifty percent of the total cost of the project. Projects may receive up to eighty percent of total cost, based on the relative needs of the region in which the project will be located, as determined by EDA, and in certain circumstances based on need, up to 100 percent. See section 204(a) of PWEDA (42 U.S.C. 3144) and 13 CFR 301.4(b)(1). Given that EDA anticipates selecting distressed cities, it is likely EDA will be able to set the federal share at eighty percent or higher.

In addition, the Grantee should expend matching funds at the same rate as granted funds in order to avoid reaching the project completion stage without having secured the needed proportionate amount required in the cooperative agreement with EDA. For example, consider a $100,000 project that receives eighty percent ($80,000) award funds and has twenty percent ($20,000) cash matching funds. If $25,000 is spent on the project in the first quarter of implementation, then the Grantee should expend $20,000 (eighty percent) from award funds and $5,000 (twenty percent) in cash matching funds.

Dated: July 6, 2011.
Tené Dolphin,
Chief of Staff, Economic Development Administration, U.S. Department of Commerce.

[FR Doc. 2011-17319 Filed 7-8-11; 8:45 am]

BILLING CODE 3510-24-P